DEPARTMENT OF COMMERCE

National Oceanic and Atmospheric Administration

[RTID 0648-XB063]

North Pacific Fishery Management Council; Public Meeting

AGENCY: National Marine Fisheries Service (NMFS), National Oceanic and Atmospheric Administration (NOAA), Commerce.

ACTION: Notice of webconference.

SUMMARY: The North Pacific Fishery Management Council (NPFMC) Trawl Electronic Monitoring Committee will meet May 21, 2021.

DATES: The meeting will be held on Friday, May 21, 2021, from 8:30 a.m. to 4:30 p.m. Alaska Daylight Time.

ADDRESSES: The meeting will be a webconference. Join online through the link at https://meetings.npfmc.org/Meeting/Details/2065.

Council address: North Pacific Fishery Management Council, 1007 W 3rd Ave, Anchorage, AK 99501-2252; telephone: (907) 271-2809. Instructions for attending the meeting are given under SUPPLEMENTARY INFORMATION, below.

FOR FURTHER INFORMATION CONTACT: Anna Henry, Council staff; phone; (907) 271-2809 and email: Anna.Henry@noaa.gov. For technical support please contact administrative Council staff, email: npfmc.admin@noaa.gov.

SUPPLEMENTARY INFORMATION:

Agenda

Friday, May 21, 2021

The agenda will include: (a) PCFMAC and FMAC updates on relevant issues; (b) EM cost reporting metrics; (c) 2021 Trawl EM program; (d) developing alternatives for the regulated Trawl EM program, and (e) scheduling, and other issues. The Agenda is subject to change, and the latest version will be posted at https://meetings.npfmc.org/Meeting/Details/2065 prior to the meeting, along with meeting materials.

Connection Information

You can attend the meeting online using a computer, tablet, or smartphone; or by phone only. Connection information will be posted online at: https://meetings.npfmc.org/Meeting/Details/2065.

Public Comment

Public comment letters will be accepted and should be submitted electronically to https://meetings.npfmc.org/Meeting/Details/2065.

Authority: 16 U.S.C. 1801 et seq.

Dated: May 3, 2021.
Tracey L. Thompson,
Acting Deputy Director, Office of Sustainable Fisheries, National Marine Fisheries Service.

[FR Doc. 2021-09605 Filed 5-5-21; 8:45 am]

BILLING CODE 3510-22-P